POSTAL REGULATORY COMMISSION

Briefing on Industry Delivery Tracking System

AGENCY: Postal Regulatory Commission

ACTION: Notice of briefing.

SUMMARY: Representatives from Time Inc. will present a briefing on Monday, August 20, 2007, beginning at 3 p.m., in the Postal Regulatory Commission's main conference room. The briefing will address delivery service measurement for certain Periodicals mailings. The briefing is open to the public.

DATES: August 20, 2007.

ADDRESSES: Postal Regulatory Commission, 901 New York Avenue, NW., Suite 200, Washington, DC 20268-0001.

FOR FURTHER INFORMATION CONTACT: Ann C. Fisher, chief of staff, Postal Regulatory Commission, 202-789-6803.

Steven W. Williams,
Secretary.

[FR Doc. 07-4029 Filed 8-16-07; 8:45 am]

BILLING CODE 7710-FW-M